CORPORATION FOR NATIONAL AND COMMUNITY SERVICE

Agency Information Collection Activities; Submission to the Office of Management and Budget for Review and Approval; Comment Request; Application Package for AmeriCorps Member Application, Enrollment and Exit Form

AGENCY: Corporation for National and Community Service.

ACTION: Notice of information collection; request for comment.

SUMMARY: The Corporation for National and Community Service (operating as AmeriCorps) has submitted a public information collection request (ICR) entitled AmeriCorps Member Application, Enrollment and Exit Form for review and approval in accordance with the Paperwork Reduction Act.

DATES: Written comments must be submitted to the individual and office listed in the ADDRESSES section by March 9, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Sharron Tendai, at 202-606-3904 or by email to stendai@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 2, 2021 at Vol. 86 FR 68487. This comment period ended January 31, 2022. Zero (0) public comments were received from this Notice.

Title of Collection: AmeriCorps Member Application, Enrollment and Exit Form.

OMB Control Number: 3045-0054. Type of Review: Renewal.

Respondents/Affected Public: Businesses and Organizations and State, Local or Tribal Governments.

Total Estimated Number of Annual Responses: 521,000.

Total Estimated Number of Annual Burden Hours: 386,833.

Abstract: AmeriCorps is soliciting comments concerning its proposed new AmeriCorps Member Application, Enrollment, and Exit Form. Applicants will respond to the questions included in this information collection tool to apply to serve as AmeriCorps members, enroll in the National Service Trust, and exit their term of service. AmeriCorps also seeks to continue using a currently approved information collection until the new information collection is approved by OMB. The currently approved information collections are due to expire on February 28, 2022 and July 31, 2024.

Dated: January 31, 2022.
Erin Dahlin,
Deputy Chief of Program Operations.

[FR Doc. 2022-02507 Filed 2-4-22; 8:45 am]

BILLING CODE 6050-28-P